DEPARTMENT OF TRANSPORTATION

Federal Aviation Administration

Environmental Assessment for the Air Tour Management Plan Program at Mount Rushmore National Memorial

AGENCY: Federal Aviation Administration, DOT.

ACTION: Notice of intent to prepare an environmental assessment and notice of initiation of public scoping.

SUMMARY: The Federal Aviation Administration (FAA), in cooperation with the National Park Service (NPS), has initiated the development of an Air Tour Management Plan (ATMP) for Mount Rushmore National Memorial, pursuant to the National Parks Air Tour Management Act of 2000 (Public Law 106-181) and its implementing regulations contained in Title 14, Code of Federal Regulations, Part 136, National Parks Air Tour Management. The objective of each ATMP is to develop acceptable and effective measures to mitigate or prevent the significant adverse impacts, if any, of commercial air tour operations upon the natural and cultural resources, visitor experiences, and tribal lands of the subject national park unit.

DATES:

Scoping Period: The 45-day scoping period will be initiated upon publication of this notice. Please submit any written response you may have within 45 days from the date of this Notice, or no later than June 1, 2004.

Scoping Meeting: A combined public scoping meeting has been scheduled for the Badlands National Park ATMP and the Mount Rushmore National Memorial ATMP as follows:

Subject park | Date | Time | Location
Badlands National Park | Tuesday, May 4, 2004 | 6 p.m. | Holiday Inn Rapid City-Rushmore Plaza, Hammons Conference Room, 505 N Fifth Street, Rapid City, South Dakota.
Mount Rushmore National Memorial | Tuesday, May 4, 2004 | 6 p.m. | Holiday Inn Rapid City-Rushmore Plaza, Hammons Conference Room, 505 N Fifth Street, Rapid City, South Dakota.

ADDRESSES: Please submit any written response you may have within 45 days from the date of this Notice, or no later than June 1, 2004. Address your comments for Mount Rushmore National Memorial to: Docket Management System, Doc No. FAA-2004-17459, U.S. Department of Transportation, Room Plaza 401, 400 Seventh Street, SW., Washington, DC 20590-0001.

You must identify the docket number FAA-2004-17459 for Mount Rushmore National Memorial at the beginning of your comments. If you wish to receive confirmation that FAA received your comments, include a self-addressed, stamped postcard. You may also submit comments through the Internet to http://dms.dot.gov. You may review the public docket containing comments in person in the Dockets Office between 9 a.m. and 5 p.m., Monday through Friday, except Federal holidays. The Dockets Office is on the plaza level of the NASSIF Building at the Department of Transportation at the above address. Also, you may review public dockets on the Internet at http://dms.dot.gov. Additionally, comments will be received and recorded at the public scoping meetings. Please note that names and addresses of people who comment become part of the public record. If you wish us to withhold your name and/or address, you must state this prominently at the beginning of your comment. We will make all submissions from organizations, businesses, and from individuals identifying themselves as representatives or officials of organizations or businesses available for public inspection in their entirety.

FOR FURTHER INFORMATION CONTACT: Steve May, Air Tour Management Plan Program Manager, Executive Resource Staff, AWP-4, Federal Aviation Administration, Western-Pacific Region. Mailing address: P.O. Box 92007, Los Angeles, California 90009-2007. Telephone: (310) 725-3808. Street address: 15000 Aviation Boulevard, Lawndale, California 90261. E-mail: Steve.May@faa.gov

SUPPLEMENTARY INFORMATION: In developing each ATMP and any associated rulemaking actions, the FAA is required to comply with the National Environmental Policy Act of 1969, which calls on Federal agencies to consider environmental issues as part of their decision making process. For the purposes of compliance with the National Environmental Policy Act, the FAA is the Lead Agency and the NPS is a Cooperating Agency. The FAA Air Tour Management Plan Program Office and the NPS Natural Sounds Program Office are responsible for the overall implementation of the ATMP Program.

An Environmental Assessment is being prepared in accordance with FAA Order 1050.1D, Policies and Procedures for Considering Environmental Impacts. The FAA is now inviting the public, agencies, tribes, and other interested parties to provide comments, suggestions, and input regarding: (1) The scope, issues, and concerns related to the development of each ATMP; (2) the scope of issues and the identification of significant issues regarding commercial air tours and their potential impacts to be addressed in the environmental process; (3) the potential effects of commercial air tours on cultural and historic resources; (4) past, present, and reasonably foreseeable future actions which, when considered with ATMP alternatives, may result in significant cumulative impacts; (5) potential ATMP alternatives; and (6) the potential impacts on natural resources and visitor experiences. The FAA requests that comments be as specific as possible in response to actions that are being proposed under this notice.

A combined public scoping meeting has been scheduled for the Badlands National Park ATMP and the Mount Rushmore National Memorial ATMP. The purpose of this scoping meeting is to describe the ATMP development and environmental processes, obtain public input regarding the ATMP and potential environmental concerns that may be appropriate for consideration in the Environmental Assessment, and to identify alternatives to be considered. Both oral and written comments will be accepted during this meeting. Agency personnel will be available to record your spoken comments. All recorded and written comments become part of the official record. The public scoping meeting will consist of a presentation in which the National Parks Air Tour Management Act of 2000 is introduced, existing conditions at Badlands National Park and Mount Rushmore National Memorial will be described and the ATMP development process at each park unit will be explained. Following the presentation, the floor will be opened for public comments to be received.

Park-specific scoping documents that describe the project in greater detail are available at the following locations:

• Rapid City Public Library, 610 Quincy Street, Rapid City, South Dakota

• Oglala Lakota College Library, 3 Mile Creek Road, Kyle, South Dakota

• Keystone Town Library, 1101 Madill Street, Keystone, South Dakota

• E. Y. Berry Library, Black Hills State University, 1200 University, Spearfish, South Dakota

• South Dakota State Library, Mercedes MacKay Building, 800 Governors Drive, Pierre, South Dakota

• FAA Air Tour Management Plan Program Web site, http://www.atmp.faa.gov/

• FAA Docket Management System Web site, http://dms.dot.gov

Issued in Hawthorne, California on April 8, 2004.
Steve May,
Program Manager, Air Tour Management Plan (ATMP) Program.

[FR Doc. 04-8715 Filed 4-15-04; 8:45 am]

BILLING CODE 4910-13-P